DEPARTMENT OF ENERGY

Federal Energy Regulatory Commission

[Docket No. RM09-2-001]

Contract Reporting Requirements of Intrastate Natural Gas Companies; Notice of Technical Workshop on Form No. 549D

On March 9, 2011, the Office of Management & Budget (OMB) approved Form No. 549D.¹ Take notice that on April 12, 2011, a technical workshop will be convened to acquaint and assist filers in using the fillable Form No. 549D PDF and XML to file data ² pursuant to Order Nos. 735 and 735-A.³ The technical workshop will be held in the Commission Meeting Room at the headquarters of the Federal Energy Regulatory Commission, 888 First Street, NE., Washington, DC from 9 a.m. to 2 p.m. (ET). The workshop will be open to the public. Although there is no registration to attend, staff is requesting some information from potential attendees to help prepare for the workshop.

¹ Form No. 549D was assigned OMB #: 1902-0253. The OMB clearance expires on 03/31/2014.

² Unless changed by the Commission, the first reporting deadline is June 1, 2011, covering transactions in the first quarter of calendar year 2011.

³ Contract Reporting Requirements of Intrastate Natural Gas Companies, Order No. 735, 75 FR 29,404, 131 FERC ¶ 61,150 (2010), order on reh'g, Order No. 735-A, 75 FR 80,685, 133 FERC ¶ 61,216 (2010).

The workshop will focus only on technical issues related to completing and filing the Form No. 549D, “Quarterly Transportation and Storage Report for Intrastate Natural Gas and Hinshaw Pipelines” using either a fillable Form PDF (http://www.ferc.gov/docs-filing/forms/form-549d/form-549d.pdf) or XML (http://www.ferc.gov/docs-filing/forms/form-549d/form-549d-schema.xsd) file. This workshop is not intended to lead to any type of further order in the proceeding. In addition, the workshop will not address any aspect of the Notice of Inquiry under Docket No. RM11-4-000. Any future clarifications regarding the use of the fillable Form, XML, and further instructions that result from discussions at the workshop will be communicated via the FERC Web site at http://www.ferc.gov/docs-filing/forms.asp#549d.

Attendees and their staff who will use the fillable Form No. 549D PDF or XML are requested to download and familiarize themselves with the following:

(1) Blank fillable Form 549D, at http://www.ferc.gov/docs-filing/forms/form-549d/form-549d.pdf

(2) Data dictionary and instructions in the Appendix of Order 735-A

(3) XML Schema (Form549D_XSD.xsd file),⁴ at http://www.ferc.gov/docs-filing/forms/form-549d/form-549d-schema.xsd

⁴ Users may view this file in Microsoft Excel.

(4) eFiling Procedures that pertain to the fillable Form and XML files.

Examples of a completed fillable Form 549D and XML file will also be posted on the FERC Web site at a later date.

Commission staff is requesting that potential filers send an e-mail to form549D@ferc.gov by March 31, 2011, informing the Commission staff of their preferences for using either the PDF or XML version of Form No. 549D as a method to eFile quarterly data and whether they intend on attending the workshop. This information will assist Staff in preparing for the Technical Workshop, but will not bind filers to a specific filing method in the future.

An agenda for the workshop will be issued in a later notice. This technical workshop will not be webcast and will not be transcribed. Those that are unable to attend in person may send questions at any time to form549d@ferc.gov. Because of ex parte concerns and pursuant to 18 CFR 3c.2 (2010), questions are subject to the same procedures and restrictions for all informal communications between regulated entities and Commission Staff.

Commission workshops and meetings are accessible under section 508 of the Rehabilitation Act of 1973. For accessibility accommodations please send an e-mail to accessibility@ferc.gov or call toll free 866-208-3372 (voice) or 202-502-8659 (TTY), or send a fax to 202-208-2106 with the required accommodations.

For additional information, please contact James Sarikas at 202-502-6831 or James.Sarikas@ferc.gov of FERC's Office of Energy Market Regulation and Thomas Russo at 202-502-8792 or Thomas.Russo@ferc.gov of FERC's Office of Enforcement.

Dated: March 22, 2011.
Kimberly D. Bose,
Secretary.

[FR Doc. 2011-7280 Filed 3-28-11; 8:45 am]

BILLING CODE 6717-01-P